DEPARTMENT OF THE TREASURY

Agency Information Collection Activities; Submission for OMB Review; Comment Request; Purchases of Bank Checks and Drafts, Cashier's Checks, Money Orders, and Traveler's Checks

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before January 2, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

Title: Purchases of Bank Checks and Drafts, Cashier's Checks, Money Orders, and Traveler's Checks.

OMB Control Number: 1506-0057.

Type of Review: Extension without change of a currently approved collection.

Description: The Bank Secrecy Act (BSA) prohibits financial institutions from issuing any “bank check, cashier's check, traveler's check, or money order to any individual in connection with a transaction or group of such contemporaneous transactions which involves United States coins or currency (or such other monetary instruments as the Secretary may prescribe) in amounts or denominations of $3,000 or more” unless (1) the financial institution verifies, through a signature card or other account documentation or information, that the individual has a transaction account with the financial institution, and records the method of verification in accordance with regulations issued by the Secretary; or (2) the individual furnishes the financial institution with such forms of identification as the Secretary may require by regulation, and the financial institution verifies and records such information in accordance with regulations issued by the Secretary. To implement these requirements, FinCEN issued a regulation requiring financial institutions to maintain records related to the issuance or sale of bank checks and drafts, cashier's checks, money orders, and traveler's checks. The regulation applies to all financial institutions as defined in 31 CFR 1010.100(t). However, it is FinCEN's experience that banks and money services businesses (MSBs) are more likely than other categories of financial institution to issue or sell bank checks and drafts, cashier's checks, money orders, and traveler's checks.

Under 31 CFR 1010.415, financial institutions are required to maintain records of certain information related to the issuance or sale of bank checks and drafts, cashier's checks, money orders, and traveler's checks when the issuance or sale involves currency between $3,000 and $10,000, inclusive, to any individual purchaser of one or more of these instruments.

Form: None.

Affected Public: Businesses or other for-profits.

Estimated Number of Respondents: 23,207.

Frequency of Response: On occasion.

Estimated Total Number of Annual Responses: 23,207.

Estimated Time per Response: 7.5 hours.

Estimated Total Annual Burden Hours: 174,053.

Authority: 44 U.S.C. 3501 et seq.

Spencer W. Clark,
Treasury PRA Clearance Officer.

[FR Doc. 2024-28099 Filed 11-29-24; 8:45 am]

BILLING CODE 4810-02-P